DEPARTMENT OF HOUSING AND URBAN DEVELOPMENT

[Docket No. FR-4456-N-19]

Privacy Act of 1974; Deletion of a Privacy Act System of Records

AGENCY: Office of the Chief Information Officer, HUD.

ACTION: Notification of the deletion of a Privacy Act System of Records.

SUMMARY: The Department proposes to delete one system of records from its inventory of records systems subject to the Privacy Act of 1974 (5 U.S.C. 552a), as amended.

DATES: Effective Date: This proposal shall become effective without further notice July 29, 2002, unless comments are received on or before that date which would result in a contrary determination.

Comment Due Date: July 29, 2002.

ADDRESSES: Interested persons are invited to submit comments regarding this notice to the Rules Docket Clerk, Office of General Counsel, Room 10276, Department of Housing and Urban Development, 451 7th Street, SW., Washington, DC 20410-0500. Communications should refer to the above docket number and title. Comments submitted by facsimile (FAX) will not be accepted. A copy of each communication submitted will be available for public inspection and copying between 7:30 and 5:30 p.m. weekdays at the above address.

FOR FURTHER INFORMATION CONTACT: Jeanette Smith, Departmental Privacy Act Officer, Telephone Number (202) 708-2374 (This is not a toll-free number). A telecommunications device for hearing- and speech-impaired persons (TTY) is available at 1-800-877-8339 (Federal Information Relay Services) (This is a toll-free number).

SUPPLEMENTARY INFORMATION: Pursuant to the Privacy Act of 1974 (5 U.S.C. 552a), as amended, notice is given that HUD proposes to delete a system of records identified as HUD Child Care Center Files, HUD/Dept-58. The Child Care Center has changed its name to the Creative Child Development Center. As an independent nonprofit organization, the Creative Child Development Center rents space from the Department. The Creative Child Development Center controls the records, not the Department. It is a nonprofit organization with no ties to HUD other than the rental of office space. Accordingly, HUD/Dept-58 is deleted from HUD's inventory of records subject to the Privacy Act.

Authority: 5 U.S.C. 552a: 88 Stat. 1896; 342 U.S.C. 3535(d).

Gloria R. Parker,
Chief Information Officer.

[FR Doc. 02-16301 Filed 6-27-02; 8:45 am]

BILLING CODE 4210-72-P